ENVIRONMENTAL PROTECTION AGENCY

40 CFR Part 52

[R01-OAR-2005-CT-0002; A-1-FRL-7967-2]

Approval and Promulgation of Air Quality Implementation Plans; Connecticut; VOC RACT Orders for Hitchcock Chair Co., Ltd.; Kimberly Clark Corp.; Watson Laboratories, Inc.; and Ross & Roberts, Inc.

AGENCY: Environmental Protection Agency (EPA).

ACTION: Direct final rule.

SUMMARY: EPA is approving State Implementation Plan (SIP) revisions submitted by the State of Connecticut. These revisions incorporate volatile organic compound (VOC) reasonably available control technology (RACT) state consent orders into the Connecticut SIP for four facilities: Hitchcock Chair Co., Ltd.; Kimberly Clark Corp.; Watson Laboratories, Inc.; and Ross & Roberts, Inc. This action will have a beneficial effect on air quality by reducing VOC emissions which contribute to ground-level ozone formation. EPA is taking this action in accordance with the Clean Air Act (CAA).

DATES: This direct final rule will be effective December 23, 2005, unless EPA receives adverse comments by November 23, 2005. If adverse comments are received, EPA will publish a timely withdrawal of the direct final rule in the Federal Register informing the public that the rule will not take effect.

ADDRESSES: Submit your comments, identified by Regional Material in EDocket (RME) ID Number R01-OAR-2005-CT-0002 by one of the following methods:

1. Federal eRulemaking Portal: http://www.regulations.gov. Follow the on-line instructions for submitting comments.

2. Agency Web site: http://docket.epa.gov/rmepub/ Regional Material in EDocket (RME), EPA's electronic public docket and comment system, is EPA's preferred method for receiving comments. Once in the system, select “quick search,” then key in the appropriate RME Docket identification number. Follow the on-line instructions for submitting comments.

3. E-mail: conroy.dave@epa.gov.

4. Fax: (617) 918-0661.

5. Mail: “RME ID Number R01-OAR-2005-CT-0002,” David Conroy, Chief, Air Programs Branch, U.S. Environmental Protection Agency, EPA New England Regional Office, One Congress Street, Suite 1100 (mail code CAQ), Boston, MA 02114-2023.

6. Hand Delivery or Courier. Deliver your comments to: David Conroy, Chief, Air Programs Branch, Office of Ecosystem Protection, U.S. Environmental Protection Agency, EPA New England Regional Office, One Congress Street, 11th floor, (CAQ), Boston, MA 02114-2023. Such deliveries are only accepted during the Regional Office's normal hours of operation. The Regional Office's official hours of business are Monday through Friday, 8:30 to 4:30, excluding Federal holidays.

Instructions: Direct your comments to Regional Material in EDocket (RME) ID Number R01-OAR-2005-CT-0002. EPA's policy is that all comments received will be included in the public docket without change and may be made available online at http://docket.epa.gov/rmepub/, including any personal information provided, unless the comment includes information claimed to be Confidential Business Information (CBI) or other information whose disclosure is restricted by statute. Do not submit through Regional Material in EDocket (RME), regulations.gov, or e-mail, information that you consider to be CBI or otherwise protected. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the Regional Material in EDocket (RME) index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at the Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30, excluding Federal holidays.

FOR FURTHER INFORMATION CONTACT: Alison C. Simcox, Air Quality Planning Unit, U.S. Environmental Protection Agency, EPA New England Regional Office, One Congress Street, Suite 1100 (CAQ), Boston, MA 02114-2023, telephone number (617) 918-1684, fax number (617) 918-0684, e-mail simcox.alison@epa.gov.

SUPPLEMENTARY INFORMATION:

I. General Information

A. How Can I Get Copies of This Document and Other Related Information?

In addition to the publicly available docket materials available for inspection electronically in Regional Material in EDocket, and the hard copy available at the Regional Office, which are identified in the ADDRESSES section above, copies of the state submittal and EPA's technical support document are also available for public inspection during normal business hours, by appointment at the State Air Agency. [The Bureau of Air Management, Department of Environmental Protection, State Office Building, 79 Elm Street, Hartford, CT 06106-1630.]

II. Rulemaking Information

Organization of this document. The following outline is provided to aid in locating information in this preamble.

A. What action is EPA taking?

B. What are the requirements in the Connecticut orders?

C. Why is EPA approving Connecticut's submittals?

D. What is the process for approving these SIP revisions?

A. What action is EPA taking?

EPA is approving VOC RACT state consent orders issued to the following facilities and incorporating these orders into the Connecticut SIP: Hitchcock Chair Co., Ltd.; Kimberly Clark Corp.; Watson Laboratories, Inc. (formerly Danbury Pharmacal); and Ross & Roberts, Inc.

B. What are the requirements in the Connecticut orders?

Consent Order 8229A for the Hitchcock Chair Company requires the wood-furniture manufacturing facility to meet VOC emission limits, work practice standards, and recordkeeping and reporting requirements. The requirements of the order are consistent with EPA's Control Techniques Guideline (CTG) for wood furniture manufacturers.¹ Specifically, the order contains VOC content limits for topcoats and sealers and for spray-booth cleaning. Work practice standards include requirements to develop a written leak inspection and maintenance plan and to conduct training for facility personnel. In addition, the requirements prohibit use of conventional air-spray guns except under specified limited conditions. Recordkeeping and reporting requirements include requirements to maintain records of VOC content and viscosity of topcoats and sealers and of solvent additions, and to submit semiannual compliance reports and compliance certifications to DEP.

¹ “Control of Volatile Organic Compound Emissions from Wood Furniture Manufacturing Operations,” EPA-453/R-96-007, April 1996.

Consent Order 8190 for the Kimberly Clark Corporation requires the tissue and healthcare-products manufacturing facility to meet VOC emission limits, monitoring requirements, and recordkeeping and reporting requirements. Specifically, the order contains VOC emissions limits for the tissue-manufacturing machines and the wastewater-treatment process. The facility is required to continue to research and test low VOC-content additives for its manufacturing process, and to submit a biennial report to DEP that summarizes research activities and evaluates the feasibility of switching to lower VOC content additives. In addition, Kimberly Clark must submit annual compliance reports and compliance certifications to DEP.

Consent Order 8200 for Watson Laboratories, Inc., requires the pharmaceutical company to meet VOC emission limits, monitoring requirements, and recordkeeping and reporting requirements. Specifically, the facility has reformulated some of its coatings and the order requires the facility to continue to use non-VOC coatings and materials when manufacturing several specified products. The order also contains monthly and annual VOC emissions caps and prohibits the facility from using methylene chloride and methanol in the existing process equipment and cleaning of this equipment. Also, the company is required to continue to research the availability of U.S. Food and Drug Administration (FDA) approved non-VOC coatings and materials for any new product produced at the facility. In addition, the facility must maintain records that include a list of coatings and materials used to manufacture specified products, and the amount and method of usage of methylene chloride and methanol. Watson Laboratories must submit annual compliance reports and compliance certifications to DEP.

Consent Order 8237 for Ross & Roberts, Inc. requires the vinyl-sheet products manufacturing business to meet VOC emission limits, monitoring requirements, and recordkeeping and reporting requirements. Specifically, the order includes a limit on the average monthly VOC emissions generated from the facility's calendar lines. Also, the facility is required to continue to use its fiberbed emission control (FEC) system (or DEP- and EPA-approved replacement system) to limit VOC emissions from the calender lines, and to monitor the performance of the FEC system (or its replacement). The facility also must conduct emissions testing, and submit testing results to DEP. In addition, the facility must maintain records that include the weight of material produced in the calender lines, results of VOC emission testing, FEC system performance, and operating time for the calendar equipment and capture and control devices. Watson Labs must submit annual compliance reports and compliance certifications to DEP.

C. Why is EPA approving Connecticut's submittals?

EPA has evaluated the orders issued to Hitchcock Chair Co., Ltd.; Kimberly Clark Corp.; Watson Laboratories, Inc.; and Ross & Roberts, Inc., and has found that they are generally consistent with EPA guidance and impose VOC RACT at these facilities. Therefore, EPA is approving these orders as VOC RACT.

The specific requirements of these orders and EPA's evaluation of these requirements are detailed in a memorandum entitled “Technical Support Document—Connecticut—VOC RACT Orders” (TSD). The TSD and Connecticut's orders are available in the docket supporting this action.

Previously, Connecticut submitted to EPA Section 22a-174-32 “Reasonably Available Control Technology (RACT) for volatile organic compounds.” EPA issued an approval of this rule on October 19, 2000 (65 FR 62620). EPA's approval noted that Connecticut must define explicitly, and have approved by EPA, RACT for all those sources complying with Section 22a-174-32 through options (C) and (D) of the rule. Therefore, the DEP subsequently submitted SIP revisions to EPA for Hitchcock Chair Co., Ltd.; Kimberly Clark Corp.; Watson Laboratories, Inc.; and Ross & Roberts, Inc.

D. What is the process for approving these SIP revisions?

The EPA is publishing this action without prior proposal because the Agency views this as a noncontroversial amendment and anticipates no adverse comments. However, in the proposed rules section of this Federal Register publication, EPA is publishing a separate document that will serve as the proposal to approve the SIP revision should relevant adverse comments be filed. This rule will be effective December 23, 2005, without further notice unless the Agency receives relevant adverse comments by November 23, 2005.

If the EPA receives such comments, then EPA will publish a notice withdrawing the final rule and informing the public that the rule will not take effect. All public comments received will then be addressed in a subsequent final rule based on the proposed rule. The EPA will not institute a second comment period on the proposed rule. Only parties interested in commenting on the proposed rule should do so at this time. If no such comments are received, the public is advised that this rule will be effective on December 23, 2005 and no further action will be taken on the proposed rule. Please note that if EPA receives adverse comment on an amendment, paragraph, or section of this rule and if that provision may be severed from the remainder of the rule, EPA may adopt as final those provisions of the rule that are not the subject of an adverse comment.

III. Final Action

EPA is approving VOC RACT orders issued to the following facilities and incorporating these orders into the Connecticut SIP: Hitchcock Chair Co., Ltd.; Kimberly Clark Corp.; Watson Laboratories, Inc. (formerly Danbury Pharmacal); and Ross & Roberts, Inc.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the National Government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 23, 2005. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Ozone, Volatile organic compounds.

Dated: August 11, 2005.
Ira W. Leighton,
Acting Regional Administrator, EPA New England.

Part 52 of chapter I, title 40 of the Code of Federal Regulations is amended as follows:

PART 52—[AMENDED]

1. The authority citation for part 52 continues to read as follows:

Authority: 42 U.S.C. 7401 et seq.

Subpart H—Connecticut

2. Section 52.370 is amended by adding paragraph (c)(96) to read as follows:

§ 52.370 Identification of plan.

* * * * *

(c) * * *

(96) Revisions to the State Implementation Plan submitted by the Connecticut Department of Environmental Protection on April 30, 2002, and October 17, 2002.

(i) Incorporation by reference.

(A) Consent Order No. 8229A issued by the Connecticut Department of Environmental Protection to Hitchcock Chair Company, Ltd., on April 15, 2002.

(B) Consent Order No. 8190 issued by the Connecticut Department of Environmental Protection to Kimberly Clark Corporation on April 23, 2002.

(C) Consent Order No. 8200 issued by the Connecticut Department of Environmental Protection to Watson Laboratories, Inc., on October 3, 2002.

(D) Consent Order No. 8237 issued by the Connecticut Department of Environmental Protection to Ross & Roberts, Inc., on October 4, 2002.

(ii) Additional materials.

(A) Nonregulatory portions of the submittal.

3. In § 52.385, Table 52.385 is amended by adding new entries to existing state citation 22a-174-32 to read as follows:

§ 52.385 EPA-approved Connecticut regulations.

* * * * *

Table 52.385.—EPA-Approved Regulations
Connecticut State citation | Title/subject | Dates: Date adopted by State | Dates: Date approved by EPA | Federal Register citation | Section 52.370 | Comments/description
* * * * * * *
22a-174-32 | Reasonably available control technology for volatile organic compounds | 4/15/02 | 10/24/05 | [Insert FR citation from published date] | (c)(96) | VOC RACT for Hitchcock Chair.
22a-174-32 | Reasonably available control technology for volatile organic compounds | 4/23/01 | 10/24/05 | [Insert FR citation from published date] | (c)(96) | VOC RACT for Kimberly Clark.
22a-174-32 | Reasonably available control technology for volatile organic compounds | 10/03/02 | 10/24/05 | [Insert FR citation from published date] | (c)(96) | VOC RACT for Watson Laboratories.
22a-174-32 | Reasonably available control technology for volatile organic compounds | 10/04/02 | 10/24/05 | [Insert FR citation from published date] | (c)(96) | VOC RACT for Ross & Roberts.
* * * * * * *

[FR Doc. 05-21194 Filed 10-21-05; 8:45 am]

BILLING CODE 6560-50-P